INTERNATIONAL TRADE COMMISSION

[Investigation No. 701-TA-416 (Final)]

Individually Quick Frozen Red Raspberries From Chile

AGENCY: International Trade Commission.

ACTION: Termination of investigation.

SUMMARY: On May 22, 2002, the Department of Commerce published notice in the Federal Register of a negative final determination of subsidies in connection with the subject investigation (67 FR 35961). Accordingly, pursuant to § 207.40(a) of the Commission's rules of practice and procedure (19 CFR 207.40(a)), the countervailing investigation concerning individually quick frozen red raspberries from Chile (investigation No. 701-TA-416 (Final)) is terminated.

EFFECTIVE DATE: June 3, 2002.

FOR FURTHER INFORMATION CONTACT: Diane J. Mazur (202-205-3184), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

Authority: This investigation is being terminated under authority of title VII of the Tariff Act of 1930; this notice is published pursuant to § 201.10 of the Commission's rules (19 CFR 201.10).

Issued: June 4, 2002.
By order of the Commission.
Marilyn R. Abbott,
Secretary.

[FR Doc. 02-14331 Filed 6-6-02; 8:45 am]

BILLING CODE 7020-02-P